DEPARTMENT OF LABOR

Office of the Secretary

Submission for OMB Review: Comment Request

October 17, 2006.

The Department of Labor (DOL) has submitted the following public information collection requests (ICR) to the Office of Management and Budget (OMB) for review and approval in accordance with the Paperwork Reduction Act of 1995 (Pub. L. 104-13, 44 U.S.C. chapter 35). A copy of each ICR, with applicable supporting documentation, may be obtained from RegInfo.gov at http://www.reginfo.gov/public/do/PRAMain or by contacting Darrin King on 202-693-4129 (this is not a toll-free number) / e-mail: king.darrin@dol.gov.

Comments should be sent to Office of Information and Regulatory Affairs, Attn: OMB Desk Officer for the Mine Safety and Health Administration (MSHA), Office of Management and Budget, Room 10235, Washington, DC 20503, telephone: 202-395-7316 / Fax: 202-395-6974 (these are not a toll-free numbers), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Mine Safety and Health Administration.

Type of Review: Extension without change of currently approved collection.

Title: Main Fan Operation and Inspection.

OMB Number: 1219-0030.

Type of Response: Recordkeeping.

Affected Public: Private Sector: Business or other for-profit.

Number of Respondents: 8.

Estimated Number of Annual Responses: 5,280.

Average Response Time: 30 minutes.

Estimated Annual Burden Hours: 2,640.

Total Annualized Capital/Startup Costs: $0.

Total Annual Costs (Operating/Maintaining Systems or Purchasing Services): $1,120.

Description: Title 30, Code of Federal Regulations, § 57.22204, which is applicable only to specific metal and nonmetal underground mines that are categorized as gassy, requires main fans to have pressure recording systems. Main fans are to be inspected daily while operating if persons are underground, and certification of the inspection is to be made by signature and date. Certifications and pressure recordings are to be kept for one year and made available to authorized representatives of the Secretary. Potentially gassy (explosive) conditions underground are largely controlled by the main fans. When accumulations of explosive gases such as methane are not swept from the mine by the main fans, they may reasonably be expected to contact an ignition source. The results are usually disastrous and multiple fatalities may be expected to occur. The main fan requirements of this standard are significantly more stringent than those imposed on nongassy mines. Information collected through the pressure recordings is used by the mine operator and MSHA to ensure that unsafe conditions are identified early and corrected.

Agency: Mine Safety and Health Administration.

Type of Review: Extension without change of currently approved collection.

Title: Escape and Evacuation Plan (Pertains to Surface Coal Mines & Surface Work Areas of Underground Coal Mines).

OMB Number: 1219-0051.

Type of Response: Recordkeeping.

Affected Public: Private Sector: Business or other for-profit.

Number of Respondents: 348.

Estimated Number of Annual Responses: 348.

Average Response Time: approximately 5 hours for new plans and 2.5 hours for revised plans.

Estimated Annual Burden Hours: 1,680.

Total Annualized Capital/Startup Costs: $0.

Total Annual Costs (Operating/Maintaining Systems or Purchasing Services): $0.

Description: Title 30, Code of Federal Regulations, § 77.1101(a) requires operators of surface coal mines, including surface facilities, and surface work areas of underground coal mines to establish and keep current a specific escape and evacuation plan to be followed in the event of a fire.

Section 77.1101(b) requires that all employees be instructed in current escape and evacuation plans, fire alarm signals, and applicable procedures to be followed in case of fire. The training and record keeping requirements associated with this standard are addressed under OMB No. 1219-0009 (Training Plan Regulations).

Section 77.1101(c) requires that escape and evacuation plans include the designation and proper maintenance of adequate means for exiting areas where persons are required to work or travel including buildings, equipment, and in areas where persons normally congregate during the work shift.

The escape and evacuation plan is prepared by the mine operator and is used by mines, MSHA, and persons involved in rescue and recovery. The plan is used to instruct employees in the proper methods of exiting structures in the event of a fire. MSHA inspection personnel use the plan to determine compliance with the standard requiring a means of escape and evacuation be established and the requirement that employees be instructed in the procedures to follow should a fire occur.

Agency: Mine Safety and Health Administration.

Type of Review: Extension without change of currently approved collection.

Title: Records of Preshift and Onshift Inspections of Slope and Shaft Areas. (Pertains to slope and shaft sinking operations at coal mines).

OMB Number: 1219-0082.

Type of Response: Recordkeeping.

Affected Public: Private Sector: Business or other for-profit.

Number of Respondents: 35.

Estimated Number of Annual Responses: 11,858.

Average Response Time: Approximately 1.25 hours.

Estimated Annual Burden Hours: 14,823.

Total Annualized Capital/Startup Costs: $0.

Total Annual Costs (Operating/Maintaining Systems or Purchasing Services): $0.

Description: Title 30, Code of Federal Regulations, 77.1901 requires operators to conduct examinations of slope and shaft areas for hazardous conditions, including tests for methane and oxygen deficiency, within 90 minutes before each shift, once during each shift, and before and after blasting. The surface area surrounding each slope and shaft is also required to be inspected for hazards.

The standard also requires that a record be kept of the results of the inspections. The record includes a description of any hazardous condition found and the corrective action taken to abate it. The record is necessary to ensure that the inspections and tests are conducted in a timely fashion and that corrective action is taken when hazardous conditions are identified, thereby ensuring a safe working environment for the slope and shaft sinking employees. The record is maintained at the mine site for the duration of the operation.

The records are used by slope and shaft supervisors and employees, State mine inspectors, and Federal mine inspectors. The records show that the examinations and tests were conducted and give insight into the hazardous conditions that have been encountered and those that may be encountered. The records of inspections greatly assist those who use them in making decisions that will ultimately affect the safety and health of slope and shaft sinking employees.

Ira L. Mills,
Departmental Clearance Officer.

[FR Doc. E6-17672 Filed 10-20-06; 8:45 am]

BILLING CODE 4510-43-P